DEPARTMENT OF HOMELAND SECURITY

Federal Emergency Management Agency

[Docket ID: FEMA-2024-0016; OMB No. 1660-0151]

Agency Information Collection Activities: Proposed Collection; Comment Request; Facility Access Request

AGENCY: Federal Emergency Management Agency, Department of Homeland Security.

ACTION: 60-Day notice of extension and request for comments.

SUMMARY: The Federal Emergency Management Agency, as part of its continuing effort to reduce paperwork and respondent burden, invites the general public to take this opportunity to comment on an extension of a currently approved information collection. In accordance with the Paperwork Reduction Act of 1995, this notice seeks comments concerning access to all FEMA controlled facilities. This information is used to create a profile within the system boundary of the FEMA.

DATES: Comments must be submitted on or before July 30, 2024.

ADDRESSES: To avoid duplicate submissions to the docket, please submit comments at www.regulations.gov under Docket ID FEMA-2024-0016. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Kymlee Murphy Perroni, Security Technology Branch Chief, Federal Emergency Management Agency Office of the Chief Security Officer, Kymlee.Murphy@fema.dhs.gov, 202-710-5587. You may contact the Information Management Division for copies of the proposed collection of information at email address: FEMA-Information-Collections-Management@fema.dhs.gov.

SUPPLEMENTARY INFORMATION: Visitor management is governed by DHS Instruction Manual 121-01-011-01, Visitor Management for DHS Headquarters and DHS Component Headquarters Facilities; FEMA Directive 121-1, Personal Identification Standard; FEMA Directive 121-3, Facility Access; and FEMA Instruction 121-3-1, Credential and Access Reference.

Collection of Information

Title: Facility Access Request.

Type of Information Collection: Extension of a currently approved information collection.

OMB Number: 1660-0151.

FEMA Forms: FEMA Form FF-900-FY-21-100 Facility Access Request and FEMA Form FF-900-FY-21-101 Facility Access Request.

Abstract: The purpose of these forms is to apply for access to all FEMA controlled facilities. This information is used to create a profile in the PACS. The personally identifiable information (PII) is used to authenticate the identity of Federal employees, contractors, and visitors who have entry authorization, and in the event of an emergency, to contact individuals. Respondents are typically individuals.

Affected Public: Federal Government & State, local or Tribal Government.

Estimated Number of Respondents: 20,500.

Estimated Number of Responses: 20,500.

Estimated Total Annual Burden Hours: 3,417.

Estimated Total Annual Respondent Cost: $180,178.

Estimated Respondents' Operation and Maintenance Costs: 0.

Estimated Respondents' Capital and Start-Up Costs: 0.

Estimated Total Annual Cost to the Federal Government: $27,201.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-11880 Filed 5-30-24; 8:45 am]

BILLING CODE 9111-19-P